DEPARTMENT OF ENERGY

Notice of Public Meeting To Inform the Design of a Consent-Based Siting Process for Nuclear Waste Storage and Disposal Facilities

AGENCY: Fuel Cycle Technologies, Office of Nuclear Energy, Department of Energy.

ACTION: Notice of public meeting.

SUMMARY: The U.S. Department of Energy (DOE) is implementing a consent-based siting process to establish an integrated waste management system to transport, store, and dispose of spent nuclear fuel and high-level radioactive waste. In a consent-based siting approach, DOE will work with communities, tribal governments and states across the country that express interest in hosting any of the facilities identified as part of an integrated waste management system. As part of this process, the Department is hosting a series of public meetings to engage communities and individuals and discuss the development of a consent-based approach to managing our nation's nuclear waste. A public meeting will be held in Tempe, AZ on June 23, 2016.

DATES: The meeting will take place on Thursday, June 23, 2016 from 5:00 p.m. to 9:30 p.m. MST. Informal poster sessions will be held from 4:00 p.m. until 5:00 p.m. MST and again after 9:30 p.m. MST. Department officials will be available to discuss consent-based siting during the poster sessions.

ADDRESSES: The meeting will be held at Marriott Phoenix Tempe at the Buttes, 2000 W Westcourt Way, Tempe, AZ 85282. To register for this meeting and to review the agenda for the meeting, please go to energy.gov/consentbasedsiting.

FOR FURTHER INFORMATION CONTACT: Requests for further information should be sent to consentbasedsiting@hq.doe.gov or to Michael Reim at 202-586-2981. Updated information on this and other planned public meetings on consent based siting will be posted at energy.gov/consentbasedsiting.

If you are unable to attend a public meeting or would like to further discuss ideas for consent-based siting, please request an opportunity for us to speak with you. The Department will do its best to accommodate such requests and help arrange additional opportunities to engage. To learn more about nuclear energy, nuclear waste, and ongoing technical work please go to energy.gov/consentbasedsiting.

Privacy Act: Data collected via the mechanisms listed above will not be protected from the public view in any way.

Issued in Washington, DC, on March 24, 2016.
Andrew Griffith,
Associate Deputy Assistant Secretary, Office of Nuclear Energy, Department of Energy.

[FR Doc. 2016-07155 Filed 3-29-16; 8:45 am]

BILLING CODE 6450-01-P